DEPARTMENT OF THE INTERIOR

Bureau of Indian Affairs

Notice of Intent To Prepare an Environmental Impact Statement for the Proposed Fee-to-Trust Transfer of Property and Subsequent Development of a Resort/Hotel and Ancillary Facilities in the City of Taunton, MA and Tribal Government Facilities in the Town of Mashpee, MA by the Mashpee Wampanoag Tribe

AGENCY: Bureau of Indian Affairs, Interior.

ACTION: Notice.

SUMMARY: This notice advises the public that the Bureau of Indian Affairs (BIA) intends to gather the information necessary for preparing an environmental impact statement (EIS) for the conveyance into trust of 170.1 acres of land currently held by the Mashpee Wampanoag Tribe (Tribe) in the Town of Mashpee, Massachusetts, and 146.39 acres of land in the City of Taunton. The purpose of the proposed action is to help provide for the economic development of the Tribe and to create a tribal land base. The Tribe is currently federally recognized but does not currently have a federally protected reservation or have land that is held in trust for the Tribe by the United States. This notice also announces public scoping meetings to identify potential issues, alternatives, and content for inclusion in the EIS.

DATES: Written comments on the scope of the EIS or implementation of the proposal must arrive by July 2, 2012. The public scoping meetings will be held June 20, 2012, in Taunton, Massachusetts, and June 21, 2012, in Mashpee, Massachusetts. Both meetings will begin at 6 p.m. and last until the last public comment is received.

ADDRESSES: You may mail, hand deliver, or telefax written comments to Franklin Keel, Regional Director, Eastern Regional Office, Bureau of Indian Affairs, 545 Marriott Drive, Suite 700, Nashville, Tennessee 37214, Telefax (615) 564-6701. Please include your name, return address and the caption specifying “Scoping Comments for Proposed Mashpee Wampanoag Tribe Property Trust and Development” on the first page of your written comments. The public scoping meetings will be held at the Taunton High School, 50 William Street, Taunton, Massachusetts and Mashpee High School, 500 Old Barnstable Road, Mashpee, Massachusetts.

FOR FURTHER INFORMATION CONTACT: Chet McGhee, Regional Environmental Scientist, Eastern Regional Office, Bureau of Indian Affairs, 545 Marriott Drive, Suite 700, Nashville, Tennessee 37214; telephone: (615) 564-6500.

SUPPLEMENTARY INFORMATION: The Tribe proposes that 146.39 acres in the City of Taunton, Massachusetts, be taken into trust and for the development of a casino, hotel, parking, and other facilities supporting the casino. The Tribe also proposes that 170.1 acres in the Town of Mashpee, Massachusetts, be taken into trust, for the continuation of its current uses of Tribal government and housing. The property in the City of Taunton is located within the current site of the Liberty & Union Industrial Park, generally bounded on the south by Route 140, on the west by Route 24, on the north by Middleborough Avenue, and on the east by Stevens Street. The proposed action is to develop a Class III gaming facility including a casino, parking structures, hotels, restaurants, retail, and a waterpark. The site is proposed to be accessible from Route 140 via Stevens Street. The property in the Town of Mashpee is located across eleven parcels totaling approximately 170.1 acres, including areas currently in use by the Tribe as council offices, a museum, and a burial ground. Proposed actions for the parcels include preserving these educational, recreational, and cultural sites as well as vacant land areas, in addition to developing some vacant land for tribal housing and building a permanent Tribal Government Center at the current site of Tribal Council Offices.

Areas of environmental concern so far identified that the EIS will address include traffic, air quality, wetland resources, cultural and historic resources, water supply, wastewater, storm water, land impacts, rare species and wildlife, environmental justice, soils and geology, land use, community character, and safety. The range of issues addressed in the EIS may also be expanded based on comments received in response to this notice and at the public scoping meeting.

Public Comment Availability

Comments, including names and addresses of respondents, will be available for public review at all of the mailing addresses shown in the ADDRESSES section (except those for the public meetings) during business hours, 8 a.m. to 4:30 p.m., Monday through Friday, except holidays. Before including your address, phone number, email address, or other personal identifying information in your comment, you should be aware that your entire comment—including your personal identifying information—may be made publicly available at any time. While you can ask us in your comment to withhold your personal identifying information from public review, we cannot guarantee that we will be able to do so.

Authority

This notice is published in accordance with section 1503.1 of the Council of Environmental Quality regulations (40 CFR parts 1500 through 1508) and Sec. 46.305 of the Department of Interior Regulations (43 CFR part 46) implementing the procedural requirements of the National Environmental Policy Act of 1969, as amended (42 U.S.C. 4321 et seq.), and is in the exercise of authority delegated to the Assistant Secretary—Indian Affairs by part 209 of the Department Manual.

Dated: May 24, 2012.
Donald E. Laverdure,
Acting Assistant Secretary—Indian Affairs.

[FR Doc. 2012-13159 Filed 5-30-12; 8:45 am]

BILLING CODE 4310-W7-P